ENVIRONMENTAL PROTECTION AGENCY

40 CFR Part 63

[EPA-R09-OAR-2010-0680; FRL-9283-6]

State of California; Request for Approval of Section 112(l) Authority for Hazardous Air Pollutants; Perchloroethylene Air Emission Standards From Dry Cleaning Facilities

AGENCY: Environmental Protection Agency (EPA).

ACTION: Final rule.

SUMMARY: EPA is finalizing approval of California's Airborne Toxic Control Measure for Emissions of Perchloroethylene from Dry Cleaning and Water-Repelling Operations, Requirements for Perc Manufacturers, and Requirements for Perc Distributors to be implemented and enforced in place of the National Perchloroethylene Air Emission Standards for Dry Cleaning Facilities. EPA is taking this action under section 112(l) of the Clean Air Act (CAA).

DATES: This rule is effective on May 2, 2011. The incorporation by reference of certain publications listed in this rule is approved by the Director of the Federal Register on May 2, 2011.

ADDRESSES: EPA has established docket number EPA-R09-OAR-2010-0680 for this action. The index to the docket is available electronically at http://www.regulations.gov and in hard copy at EPA Region IX, 75 Hawthorne Street, San Francisco, California. While all documents in the docket are listed in the index, some information may be publicly available only at the hard copy location (e.g., copyrighted material), and some may not be publicly available in either location (e.g., CBI). To inspect the hard copy materials, please schedule an appointment during normal business hours with the contact listed in the FOR FURTHER INFORMATION CONTACT section.

FOR FURTHER INFORMATION CONTACT: Mae Wang, EPA Region IX, (415) 947-4124, wang.mae@epa.gov.

SUPPLEMENTARY INFORMATION: Throughout this document, “we,” “us” and “our” refer to EPA.

Table of Contents

I. Proposed Action

II. Public Comments and EPA Responses

III. EPA Action

A. Major Dry Cleaning Sources

B. California District Rules

C. Implementation and Enforcement

IV. Statutory and Executive Order Reviews

I. Proposed Action

On October 6, 2010 (75 FR 61662), EPA proposed to approve California's Airborne Toxic Control Measure for Emissions of Perchloroethylene from Dry Cleaning and Water Repelling Operations, Requirements for Perc Manufacturers, and Requirements for Perc Distributors, sections 93109, 93109.1, and 93109.2, Title 17 of the California Code of Regulations (amended dry cleaning ATCM). The amended dry cleaning ATCM became State law on December 27, 2007, and was submitted by the California Air Resources Board (CARB) to be implemented and enforced in lieu of the National Perchloroethylene Air Emission Standards for Dry Cleaning Facilities, 40 CFR Part 63, Subpart M (dry cleaning NESHAP), and California's previously approved original dry cleaning ATCM. Because EPA believes California's request meets all the requirements necessary to qualify for approval under CAA section 112(l) and 40 CFR 63.91 and 63.93, we are approving California's amended dry cleaning ATCM. Our proposed action contains more information on the regulations and our evaluation.

II. Public Comments and EPA Responses

EPA's proposed action provided a 30-day public comment period. During this period, we did not receive any comments.

III. EPA Action

No comments were submitted that change our assessment that CARB's request meets all the requirements necessary to qualify for approval under CAA section 112(l) and 40 CFR 63.91 and 63.93. Therefore, as authorized in CAA section 112(l), EPA is fully approving California's amended dry cleaning ATCM as proposed on October 6, 2010.

A. Major Dry Cleaning Sources

Under the dry cleaning NESHAP, dry cleaning facilities are divided between major sources and area sources. CARB's request for approval includes only those provisions of the dry cleaning NESHAP that apply to area sources. Thus, dry cleaning facilities that are major sources, as defined by the dry cleaning NESHAP, remain subject to the dry cleaning NESHAP and the CAA Title V operating permit program.

B. California District Rules

After the May 21, 1996, approval of California's original dry cleaning ATCM, the following California district rules were approved in place of the dry cleaning NESHAP:

District | Rule | Adoption date | Approval date
San Luis Obispo County APCD | 432: Perchloroethylene Dry Cleaning Operations | 11/13/1996 | 12/10/1997, (62 FR 65022).
South Coast AQMD | 1421: Control of Perchloroethylene Emissions from Dry Cleaning Systems | 6/13/1997 | 5/13/1998, (63 FR 26463).
Yolo-Solano AQMD | 9.7: Perchloroethylene Dry Cleaning Operations | 11/13/1998 | 1/28/1999, (64 FR 4298).

California's amended dry cleaning ATCM will replace the above rules from San Luis Obispo County Air Pollution Control District and Yolo-Solano County Air Quality Management District as the Federally-enforceable regulation in those districts for perchloroethylene (perc) dry cleaning area sources. In the future, a district may request approval for a local rule under the provisions of 40 CFR 63.93. Until a request for delegation of a local regulation is submitted and approved by EPA, California's amended dry cleaning ATCM will serve as the Federally applicable regulation, with the one exception discussed below.

In the South Coast Air Quality Management District (SCAQMD), the previously approved version of Rule 1421 will remain in place as the Federally-enforceable regulation for perc dry cleaning area sources. The SCAQMD has asked to be excluded from the CARB request for delegation and intends to submit an amended version of Rule 1421 in a separate delegation request in the future. Therefore, California's amended dry cleaning ATCM will be the Federally applicable regulation for perc dry cleaning area sources in all districts of California except the SCAQMD.

C. Implementation and Enforcement

This final approval action will establish California's amended dry cleaning ATCM as the Federally-enforceable regulation in California, with the exception of the SCAQMD, for perc dry cleaning area sources. Although California would have primary implementation and enforcement responsibility, EPA would retain the right, pursuant to CAA section 112(l)(7), to enforce any applicable emission standard or requirement under CAA section 112. The amended dry cleaning ATCM will be the Federally-enforceable standard in California and will be enforceable by the Administrator and citizens under the CAA. However, any provision of California's amended dry cleaning ATCM that allows for the approval of alternative means of emission limitations must also receive approval from EPA before such alternatives can be used (e.g., Sections 93109(d)(27) and (38), and (i)(3)(A)(2)). Additionally, this delegation does not extend to the provisions regarding California's enforcement authorities or its collection of fees as described in Sections 93109.1(c) and 93109.2(c) and (d), Title 17 of the California Code of Regulations. Approval of California's amended dry cleaning ATCM does not in any way limit the enforcement authorities, including the penalty authorities, of the CAA.

IV. Statutory and Executive Order Reviews

Under the CAA, the Administrator is required to approve a State delegation submission that complies with the provisions of the CAA and applicable Federal regulations. 42 U.S.C. 7412(l); 40 CFR 63.90. Thus, in reviewing delegation submissions, EPA's role is to approve State choices, provided that they meet the criteria of the CAA. Accordingly, this action merely approves State law as meeting Federal requirements and does not impose additional requirements beyond those imposed by State law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not interfere with Executive Order 12898 (59 FR 7629, February 16, 1994) because EPA lacks the discretionary authority to address environmental justice in this rulemaking.

In addition, this rule does not have Tribal implications as specified by Executive Order 13175 (65 FR 67249, November 9, 2000), because the submitted rule is not approved to apply in Indian country located in the State, and EPA notes that it will not impose substantial direct costs on Tribal governments or preempt Tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by May 31, 2011. Filing a petition for reconsideration by the Administrator of this final rule does not affect the finality of this action for the purposes of judicial review nor does it extend the time within which a petition for judicial review may be filed, and shall not postpone the effectiveness of such rule or action. This action may not be challenged later in proceedings to enforce its requirements (see section 307(b)(2)).

List of Subjects in 40 CFR Part 63

Environmental protection, Administrative practice and procedure, Air pollution control, Hazardous substances, Incorporation by reference, Intergovernmental relations, Reporting and recordkeeping requirements.

Authority: This action is issued under the authority of Title III of the Clean Air Act as amended, 42 U.S.C. 7412.

Dated: March 3, 2011.
Jared Blumenfeld,
Regional Administrator, Region IX.

Part 63, Chapter I, Title 40 of the Code of Federal Regulations is amended as follows:

PART 63—[AMENDED]

1. The authority citation for Part 63 continues to read as follows:

Authority: 42 U.S.C. 7401 et seq.

Subpart A—General Provisions

2. Section 63.14 is amended by revising paragraph (d)(1) to read as follows:

§ 63.14 Incorporations by reference.

(d) * * *

(1) California Regulatory Requirements Applicable to the Air Toxics Program, November 16, 2010, IBR approved for § 63.99(a)(5)(ii) of Subpart E of this part.

* * * * *

Subpart E—Approval of State Programs and Delegation of Federal Authorities

3. Section 63.99 is amended as follows:

a. By revising paragraph (a)(5)(ii) introductory text;

b. By revising paragraph (a)(5)(ii)(A) introductory text;

c. By revising paragraph (a)(5)(ii)(A)(1)(ii);

d. By adding paragraph (a)(5)(ii)(A)(1)(iii); and

e. By removing and reserving paragraphs (a)(5)(ii)(B) and (D).

§ 63.99 Delegated Federal authorities.

(a) * * *

(5) * * *

(ii) California approvals other than straight delegation. Affected sources must comply with the California Regulatory Requirements Applicable to the Air Toxics Program, November 16, 2010, (incorporated by reference as specified in § 63.14) as described as follows:

(A) The material incorporated in Chapter 1 of the California Regulatory Requirements Applicable to the Air Toxics Program (California Code of Regulations Title 17, sections 93109, 93109.1, and 93109.2) pertains to the perchloroethylene dry cleaning source category in the State of California, and has been approved under the procedures in § 63.93 to be implemented and enforced in place of subpart M—National Perchloroethylene Air Emission Standards for Dry Cleaning Facilities, as it applies to area sources only, as defined in § 63.320(h).

(1) * * *

(ii) California is not delegated the Administrator's authority of § 63.325 to determine equivalency of emissions control technologies. Any source seeking permission to use an alternative means of emission limitation, under sections 93109(d)(27) or (38), or (i)(3)(A)(2), Title 17 of the California Code of Regulations, must also receive approval from the Administrator before using such alternative means of emission limitation for the purpose of complying with section 112 of the Clean Air Act.

(iii) This delegation does not extend to the provisions regarding California's enforcement authorities or its collection of fees as described in Sections 93109.1(c) or 93109.2(c) and (d), Title 17 of the California Code of Regulations. Approval of the California Code of Regulations, Title 17, sections 93109, 93109.1, and 93109.2 does not in any way limit the enforcement authorities, including the penalty authorities, of the Clean Air Act.

* * * * *

[FR Doc. 2011-7603 Filed 3-31-11; 8:45 am]

BILLING CODE 6560-50-P